SMALL BUSINESS ADMINISTRATION

Advisory Committee on Veterans Business Affairs; Public Meeting

The U.S. Small Business Administration (SBA), pursuant to the Veterans Entrepreneurship and Small Business Development Act of 1999 (Pub. L. 106-50), Advisory Committee on Veterans Business Affairs will host a second public meeting on November 15-17, 2005. The meeting will take place at the U.S. Small Business Administration, 409 3rd Street, SW., Washington, DC 20416. The meeting on Tuesday, November 15, 2005 and Wednesday, November 16, 2005 will start at 9 a.m. until 5 p.m., in the Eisenhower Conference Room, located on the 2nd floor. The meeting on Thursday, November 17, 2005 will start at 9 a.m. until noon, in the Administration's Conference Room, located on the 7th floor.

Anyone wishing to attend must contact Cheryl Clark in writing or by fax. Cheryl Clark, Program Liaison, Office of Veterans Business Development, 409 3rd Street, SW., Washington, DC 204165, phone (202) 205-6773), fax: (202) 481-6085, e-mail: cheryl.clark@sba.gov.

Matthew K. Becker,
Committee Management Officer.

[FR Doc. 05-22736 Filed 11-15-05; 8:45 am]

BILLING CODE 8025-01-P